NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by June 27, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671 as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2023-003

1. Applicant: Birgitte McDonald, Moss Landing Marine Labs, 8272 Moss Landing Rd., Moss Landing, CA 95039

Activity for Which Permit Is Requested

Take, Harmful Interference, Enter in Antarctic Special Protected Area, Import to USA. The applicant requests authorization to enter Antarctic Specially Protected Area (ASPA) No. 124, Cape Crozier, to conduct physiological and ecological studies on emperor penguins (Aptenodytes forsteri). The two-part project aims to address fundamental information gaps about the foraging ecology and habitat use of emperor penguins at two stages of their life history. During phase one of the research, the applicant proposes capturing up to 48 adult emperor penguins as they depart colonies to forage during late chick-rearing. Captured penguins will undergo morphological and physiological sampling and will be fitted with instrumentation used for collecting foraging data. During the second phase of research, the applicant proposes capturing up to 44 adult emperor penguins during early reproduction phases, this second group of individuals will be fitted with satellite-linked instrumentation and tissue samples will be collected. Some of the data loggers will be retrieved from individuals at the end of the study, while others will detach during subsequent molting.

Location

Cape Crozer, ASPA No. 124; Eastern Ross Sea, Antarctica

Dates of Permitted Activities

October 1, 2022-May 30, 2023

Erika N. Davis,
Program Specialist, Office of Polar Programs.

[FR Doc. 2022-11300 Filed 5-25-22; 8:45 am]

BILLING CODE 7555-01-P